DEPARTMENT OF COMMERCE

International Trade Administration

[A-791-815, A-570-873]

Ferrovanadium From the Republic of South Africa and the People's Republic of China: Continuation of Antidumping Duty Orders

AGENCY: Enforcement and Compliance, International Trade Administration, Department of Commerce.

SUMMARY: As a result of the determinations by the Department of Commerce (Commerce) and the International Trade Commission (ITC) that revocation of the antidumping duty (AD) orders on ferrovanadium from the Republic of South Africa (South Africa) and the People's Republic of China (China) would likely lead to continuation or recurrence of dumping and material injury to an industry in the United States, Commerce is publishing a notice of continuation of these AD orders.

DATES: Applicable August 20, 2020.

FOR FURTHER INFORMATION CONTACT: Ian Hamilton, Office II, AD/CVD Operations, Enforcement and Compliance, International Trade Administration, U.S. Department of Commerce, 1401 Constitution Avenue NW, Washington, DC 20230; telephone: (202) 482-4798.

SUPPLEMENTARY INFORMATION:

Background

On January 2, 2020, the ITC instituted,¹ and Commerce initiated,² the third five-year (sunset) reviews of the AD orders on ferrovanadium from South Africa and China,³ pursuant to section 751(c) of the Tariff Act of 1930, as amended (the Act). As a result of its reviews, Commerce determined, pursuant to sections 751(c) and 752(c) of the Act, that revocation of the Orders on ferrovanadium from South Africa and China would be likely to lead to the continuation or recurrence of dumping. Commerce also notified the ITC of the magnitude of the margins of dumping likely to prevail should the Orders be revoked.⁴

¹ See Ferrovanadium from China and South Africa; Institution of Five-Year Reviews, 85 FR 122 (January 2, 2020).

² See Initiation of Five-Year (Sunset) Reviews, 85 FR 67 (January 2, 2020).

³ See Notice of Antidumping Duty Order: Ferrovanadium from the Republic of South Africa, 68 FR 4169 (January 28, 2003); see also Notice of Amended Final Antidumping Duty Determination of Sales at Less Than Fair Value and Antidumping Duty Order: Ferrovanadium From the People's Republic of China, 68 FR 4168 (January 28, 2003) (collectively, Orders).

⁴ See Ferrovanadium From the Republic of South Africa and the People's Republic of China: Final Results of the Expedited Third Sunset Reviews of the Antidumping Duty Orders, 85 FR 26667 (May 5, 2020), and accompanying Issues and Decision Memorandum.

On August 13, 2020, the ITC published its determinations, pursuant to sections 751(c) and 752(a) of the Act, that revocation of the Orders would likely lead to continuation or recurrence of material injury to an industry in the United States within a reasonably foreseeable time.⁵

⁵ See Ferrovanadium from the Republic of South Africa and the People's Republic of China (Inv. Nos. 731-TA-986 and 731-TA-987 (Review)), 85 FR 49394 (August 13, 2020); see also Ferrovanadium from the Republic of South Africa and the People's Republic of China (Inv. Nos. 731-TA-986 and 731-TA-987 (Review)), USITC Pub. 5099 (August 2020).

Scope of the Orders

The scope of the Orders covers all ferrovanadium regardless of grade, chemistry, form, shape, or size. Ferrovanadium is an alloy of iron and vanadium that is used chiefly as an additive in the manufacture of steel. The merchandise is commercially and scientifically identified as vanadium. It specifically excludes vanadium additives other than ferrovanadium, such as nitride vanadium, vanadium-aluminum master alloys, vanadium chemicals, vanadium oxides, vanadium waste and scrap, and vanadium-bearing raw materials such as slag, boiler residues and fly ash. Merchandise under the following Harmonized Tariff Schedule of the United States (HTSUS) item numbers 2850.00.2000, 8112.40.3000, and 8112.40.6000 are specifically excluded.

Ferrovanadium is classified under HTSUS item number 7202.92.00. Although the HTSUS item number is provided for convenience and Customs purposes, Commerce's written description of the scope of these orders remains dispositive.

Continuation of the Orders

As a result of the determinations by Commerce and the ITC that revocation of the Orders would likely lead to a continuation or a recurrence of dumping and of material injury to an industry in the United States, pursuant to section 751(d)(2) of the Act and 19 CFR 351.218(a), Commerce hereby orders the continuation of the Orders. U.S. Customs and Border Protection will continue to collect AD cash deposits at the rates in effect at the time of entry for all imports of subject merchandise. The effective date of the continuation of the Orders will be the date of publication in the Federal Register of this notice of continuation. Pursuant to section 751(c)(2) of the Act and 19 CFR 351.218(c)(2), Commerce intends to initiate the next five-year review of the Orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year (sunset) reviews and this notice are in accordance with sections 751(c) and (d)(2) of the Act and published in accordance with section 777(i) of the Act, and 19 CFR 351.218(f)(4). Note that Commerce has temporarily modified certain of its requirements for serving documents containing business proprietary information, until further notice.⁶

⁶ See Temporary Rule Modifying AD/CVD Service Requirements Due to COVID-19; Extension of Effective Period, 85 FR 41363 (July 10, 2020).

Dated: August 13, 2020.
Jeffrey I. Kessler,
Assistant Secretary for Enforcement and Compliance.

[FR Doc. 2020-18287 Filed 8-19-20; 8:45 am]

BILLING CODE 3510-DS-P